DEPARTMENT OF ENERGY

Federal Energy Regulatory Commission

Combined Notice of Filings #1

Take notice that the Commission received the following exempt wholesale generator filings:

Docket Numbers: EG12-76-000.

Applicants: NRG Solar Avra Valley, LLC.

Description: Notice of Self Certification of Exempt Wholesale Generator Status NRG Solar Avra Valley, LLC.

Filed Date: 6/13/12.

Accession Number: 20120613-5096.

Comments Due: 5 p.m. ET 7/5/12.

Docket Numbers: EG12-77-000.

Applicants: Spearville 3, LLC.

Description: Notice of Self-Certification of Exempt Wholesale Generator Status of Spearville 3, LLC.

Filed Date: 6/13/12.

Accession Number: 20120613-5114.

Comments Due: 5 p.m. ET 7/5/12.

Take notice that the Commission received the following electric rate filings:

Docket Numbers: ER12-753-001.

Applicants: RITELine Indiana, LLC.

Description: RITELine Indiana 20120613 Compliance to be effective 3/4/2012.

Filed Date: 6/13/12.

Accession Number: 20120613-5128.

Comments Due: 5 p.m. ET 7/5/12.

Docket Numbers: ER12-2019-000

Applicants: NRG Solar Avra Valley LLC

Description: Application for Market-Based Rate Authority to be effective 8/13/2012.

Filed Date: 6/13/12.

Accession Number: 20120613-5082.

Comments Due: 5 p.m. ET 7/5/12.

Docket Numbers: ER12-2020-000.

Applicants: Arizona Public Service Company.

Description: Modification to Section 3 of the APS LGIP to be effective 8/14/2012.

Filed Date: 6/13/12.

Accession Number: 20120613-5083.

Comments Due: 5 p.m. ET 7/5/12.

Docket Numbers: ER12-2021-000.

Applicants: Klamath Generation LLC.

Description: Tariff Revisions to be effective 6/14/2012.

Filed Date: 6/13/12.

Accession Number: 20120613-5088.

Comments Due: 5 p.m. ET 7/5/12.

Docket Numbers: ER12-2022-000.

Applicants: Klondike Wind Power LLC.

Description: Tariff Revisions to be effective 6/14/2012.

Filed Date: 6/13/12.

Accession Number: 20120613-5102.

Comments Due: 5 p.m. ET 7/5/12.

Docket Numbers: ER12-2023-000.

Applicants: Sierra Pacific Power Company.

Description: Rate Schedule No. 33 Amended & Restated Operating Agrmt No. 3 Mt Wheeler to be effective 7/1/2012.

Filed Date: 6/13/12.

Accession Number: 20120613-5103.

Comments Due: 5 p.m. ET 7/5/12.

Docket Numbers: ER12-2024-000.

Applicants: Klondike Wind Power II LLC.

Description: Tariff Revisions to be effective 6/14/2012.

Filed Date: 6/13/12.

Accession Number: 20120613-5104.

Comments Due: 5 p.m. ET 7/5/12.

Docket Numbers: ER12-2025-000.

Applicants: Klondike Wind Power III LLC.

Description: Tariff Revisions to be effective 6/14/2012.

Filed Date: 6/13/12.

Accession Number: 20120613-5113.

Comments Due: 5 p.m. ET 7/5/12.

Docket Numbers: ER12-2026-000.

Applicants: Leaning Juniper Wind Power II LLC.

Description: Tariff Revisions to be effective 6/14/2012.

Filed Date: 6/13/12.

Accession Number: 20120613-5123.

Comments Due: 5 p.m. ET 7/5/12.

Docket Numbers: ER12-2027-000.

Applicants: Lempster Wind, LLC.

Description: Tariff Revisions to be effective 6/14/2012.

Filed Date: 6/13/12.

Accession Number: 20120613-5131.

Comments Due: 5 p.m. ET 7/5/12.

Docket Numbers: ER12-2028-000.

Applicants: Locust Ridge Wind Farm, LLC.

Description: Tariff Revisions to be effective 6/14/2012.

Filed Date: 6/13/12.

Accession Number: 20120613-5132.

Comments Due: 5 p.m. ET 7/5/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 14, 2012.
Nathaniel J. Davis, Sr.,
Deputy Secretary.

[FR Doc. 2012-15405 Filed 6-22-12; 8:45 am]

BILLING CODE 6717-01-P